DEPARTMENT OF COMMERCE

National Oceanic and Atmospheric Administration

[I.D. 041305A]

Marine Mammals; File No. 1074-1779-00

AGENCY: National Marine Fisheries Service (NMFS), National Oceanic and Atmospheric Administration (NOAA), Commerce.

ACTION: Issuance of permit.

SUMMARY: Notice is hereby given that Marc Dantzker, Principal Investigator, Producer, Sound Recording, Cornell Lab of Ornithology, Macaulay Library, Cornell University, 159 Sapsucker Woods Road, Ithaca, NY 14850-1999, has been issued a permit to take marine mammals during photographic activities for commercial and educational purposes.

ADDRESSES: The permit and related documents are available for review upon written request or by appointment (See SUPPLEMENTARY INFORMATION).

FOR FURTHER INFORMATION CONTACT: Ruth Johnson or Jennifer Jefferies, (301)713-2289.

SUPPLEMENTARY INFORMATION: On February 10, 2005, notice was published in the Federal Register (70 FR 7082) that a request for a commercial/educational photography permit to take by harassment various cetacean and pinniped species had been submitted by the above-named individual. The requested permit has been issued under the authority of the Marine Mammal Protection Act of 1972, as amended (16 U.S.C. 1361 et seq.).

In compliance with the National Environmental Policy Act of 1969 (42 U.S.C. 4321 et seq.), a final determination has been made that the activity proposed is categorically excluded from the requirement to prepare an environmental assessment or environmental impact statement.

Documents may be reviewed in the following locations:

Permits, Conservation and Education Division, Office of Protected Resources, NMFS, 1315 East-West Highway, Room 13705, Silver Spring, MD 20910; phone (301)713-2289; fax (301)427-2521;

Assistant Regional Administrator for Protected Resources, Northwest Region, NMFS, 7600 Sand Point Way NE, BIN C15700, Bldg. 1, Seattle, WA 98115-0700; phone (206)526-6150; fax (206)526-6426;

Assistant Regional Administrator for Protected Resources, Alaska Region, NMFS, P.O. Box 21668, Juneau, AK 99802-1668; phone (907)586-7235; fax (907)586-7012;

Assistant Regional Administrator for Protected Resources, Southwest Region, NMFS, 501 West Ocean Blvd., Suite 4200, Long Beach, CA 90802-4213; phone (562)980-4020; fax (562)980-4027;

Assistant Regional Administrator for Protected Resources, Pacific Islands Regional Office, NMFS, 1601 Kapiolani Blvd., Suite 1110, Honolulu, HI 96814-4700; phone (808)973-2935; fax (808)973-2941;

Assistant Regional Administrator for Protected Resources, Northeast Region, NMFS, One Blackburn Drive, Gloucester, MA 01930-2298; phone (978)281-9328; fax (987)281-9394; and

Assistant Regional Administrator for Protected Resources, Southeast Region, NMFS, 263 13th Avenue South, St. Petersburg, FL 33701, phone (727)824-5312; fax (727)824-5309.

Dated: May 4, 2005.
Stephen L. Leathery,
Chief, Permits, Conservation and Education Division, Office of Protected Resources, National Marine Fisheries Service.

[FR Doc. 05-9330 Filed 5-9-05; 8:45 am]

BILLING CODE 3510-22-S